DEPARTMENT OF AGRICULTURE

Agricultural Marketing Service

[Document No. AMS-ST-11-0032]

Notice of Request for an Extension and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for Recordkeeping Requirements for Certified Applicators of Federally Restricted Use Pesticides (7 CFR part 110).

DATES: Comments received by June 30, 2011 will be considered.

ADDITIONAL INFORMATION OR COMMENTS: Contact Jeffery Haynes, Chief, Pesticide Records Staff, Science and Technology Program, Agricultural Marketing Service, Suite 203, 8609 Sudley Road, Manassas, Virginia 20110-4582, Telephone (703) 330-7826, Fax (703) 330-6110.

SUPPLEMENTARY INFORMATION:

Title: Recordkeeping Requirements for Certified Applicators of Federally Restricted Use Pesticides (7 CFR part 110).

OMB Number: 0581-0164.

Expiration Date of Approval: November 30, 2014.

Type of Request: Extension and revision of a currently approved information collection.

Abstract: Section 1491 of the Food, Agriculture, Conservation, and Trade Act of 1990, (Pub. L. 101-624; 7 U.S.C. 136i-1), (Act), directs and authorizes the Secretary of Agriculture to require that certified pesticide applicators maintain records of applications of federally restricted use pesticides for a period of two years.

The Act also (1) requires that the pesticide records be made available to Federal or State officials, and to licensed health care professionals who need the records in order to treat an individual who may have been exposed to restricted use pesticides; (2) requires that the Secretary of Agriculture enforce the recordkeeping and access requirements of the Act and promulgate regulations to administer the Act; and (3) establishes civil penalties for violations of the Act. A certified applicator is an individual who is certified by the Environmental Protection Agency (EPA) or a State under cooperative agreement with EPA to use or supervise the use of restricted use pesticides.

The Secretary of Agriculture delegated his responsibilities under the Act to the Agricultural Marketing Service (AMS), which promulgated regulations to administer the Act at 7 CFR part 110 (regulations). In order to enforce these regulations, AMS collects information through personal inspections of the application records of certified applicators of restricted use pesticides.

The information collected by AMS is used only by authorized representatives of AMS (AMS' Science and Technology Program national staff, other designated Federal employees and designated State supervisors and their staffs) who are delegated authority to access the records pursuant to subsection (b) of the Act. The collected information is used to administer the Federal Pesticide Recordkeeping program. AMS is the primary user of this information. The secondary user of the information is each designated State agency which has a cooperative agreement with AMS.

Estimate of Burden: Public reporting burden for this collection of information is estimated as follows:

(a) Approximately 292,251 certified private applicators (recordkeepers) apply restricted use pesticides under the Federal regulations. It is estimated that each certified private applicator averages 1.31 hours per year to document their records for a total of 382,849 annual burden hours. This is a 19,519 decrease in burden hours from the previous collection request due to a decrease in the number of certified private applicators and subsequent restricted use pesticide applications. The current data indicates that each certified private applicator makes an average of approximately 16 restricted use pesticide applications per year. Of the 292,251 certified private applicators, approximately 3,591 are selected annually for recordkeeping inspections. It is estimated that a private applicator that is subject to a pesticide record inspection has an additional annual burden of .333 hours, which contributes to an additional annual burden of 1,196 hours.

(b) There are approximately 207,162 certified commercial applicators nationally who are required to provide copies of restricted use pesticide application records to their clients. It is estimated that each certified commercial applicator must provide an average of 616 records to customers. The burden hours for certified commercial applicators to provide a record to each customer averages 0.0080 hour per record. The total annual burden to certified commercial applicators is 1,020,894 hours.

(c) It is estimated that the State agency personnel from 27 States have 30 burden hours per State to equal 810 annual burden hours. State agency personnel from these 27 States conduct an average of 133 certified private applicator inspections at an annual burden of 1.8 hours per inspection to equal 6,464 annual burden hours. The total annual burden for the 27 States to develop a cooperative agreement with AMS and to inspect certified private applicator records have a total annual burden of 7,274 hours.

Respondents: Certified private and commercial applicators, State governments or employees, and Federal agencies or employees.

Estimated Number of Respondents: 499,467—The total number of respondents include 292,251 certified private applicators (which includes those selected for inspection), 207,162 certified commercial applicators, 27 designated State agency administrative personnel to implement cooperative agreements, and 27 designated State personnel to inspect certified private applicator's records.

Estimated Number of Responses per Respondent: The estimated number of responses per respondent is as follows:

(a) It is estimated that certified private applicators (recordkeepers), record on an average 16 restricted use pesticide application records annually.

(b) It is estimated that certified commercial applicators provide 616 copies of restricted use pesticide records to their clients annually.

(c) State agency personnel, who work under cooperative agreements with AMS to conduct restricted use pesticide records inspections, have approximately 3,591 responses annually.

Estimated Total Annual Burden Hours on Respondents: 1,412,213. This revision in the Total Annual Burden on Respondents decreases the burden by 385,501 hours due to the decrease in the number of certified applicators and the number of restricted use pesticides applications that certified applicators are making annually.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond. Comments should be sent to Jeffery Haynes, Chief, Pesticide Records Staff, Science and Technology Program, Agricultural Marketing Service, Suite 203, 8609 Sudley Road, Manassas, Virginia 20110-4582. All comments received will be available for public inspection during regular business hours at the same address.

All responses to this notice will be summarized and included in the request for OMB approval. All comments will become a matter of public record.

Dated: April 29, 2011.
Rayne Pegg,
Administrator, Agricultural Marketing Service.

[FR Doc. 2011-11041 Filed 5-4-11; 8:45 am]

BILLING CODE P